DEPARTMENT OF THE INTERIOR

Bureau of Land Management

[MT010-1220-DA]

Motorized Vehicle Use Within the Following Areas of Critical Environmental Concern: Bridger Fossil Area; East Pryor Mountain; Meeteetse Spires; Petroglyph Canyon and Weatherman Draw, within Carbon and Musselshell Counties, Montana

AGENCY: Bureau of Land Management, Interior.

ACTION: Notice.

SUMMARY: The decision to approve the designation of seven ACEC's within Carbon and Yellowstone Counties, Montana with associated restrictions on motorized vehicle use is final. Motorized use in the Bridger Fossil Area, East Pryor Mountain, Meeteese Spires, Petroglyph Canyon and Stark Site ACEC's is restricted to designated roads. Motorized vehicle use in the Weatherman Draw ACEC is limited to authorized use only. The final decision was signed on March 10, 1999 and the restrictions became effective on April 10, 1999. These areas are posted with signs listing the specific restrictions for each area.

FOR FURTHER INFORMATION CONTACT: Sandra Brooks, Field Manager, BLM, Billings Field Office, PO BOX 36800, 5001 Southgate Drive, Billings, Montana, 59107 or 406-896-5013.

SUPPLEMENTARY INFORMATION: Authority for this action is outlined in sections 302, 303 and 310 of the Federal Land Policy and Mangement Act of October 21, 1976, (43 U.S.C. 1716) and Title 43 Code of Federal Regulations Subject 8364 (43 CFR 8364.1). Any person who fails to comply with this closure is subject to arrest and a fine up to $1000 or imprisonment not to exceed 12 months, or both. These restrictions apply to all persons except persons authorized by the Bureau of Land Management.

Dated: June 1, 2000.
Sandra S. Brooks,
Field Manager.

[FR Doc. 00-14268 Filed 6-6-00; 8:45 am]

BILLING CODE 4310-$$-U